DEPARTMENT OF AGRICULTURE

Foreign Agricultural Service

Information on Dairy Import Licenses for the 2021 Tariff-Rate Quota (TRQ) Year—United Kingdom Designation of Importers for Dairy Import Licenses

AGENCY: Foreign Agricultural Service, USDA.

ACTION: Notice.

SUMMARY: The U.S. Department of Agriculture (USDA) has determined that, for the 2021 quota year, the United Kingdom (UK) may designate importers to receive import licenses for specified quantities under certain dairy tariff-rate quotas (TRQs) allocated to the EU-27. In accordance with the definitions in Chapter 4 of the U.S. Harmonized Tariff Schedule (HTS), the UK continues to be eligible to export under dairy TRQ allocations to the EU-27. In previous years, the European Commission (EC) designated importers on behalf of the UK and all other eligible European Union (EU) Member States for dairy TRQ amounts reserved for designated licenses. However, the EC has informed the United States that it no longer has the authority to designate importers on behalf of UK exporters for trade transactions that will occur after December 31, 2020. Accordingly, the EU and the UK have each requested that the UK be permitted to designate importers for portions of certain dairy TRQs for the 2021 quota year. The USDA has agreed to the EU's and UK's requests.

DATES: November 4, 2020.

FOR FURTHER INFORMATION CONTACT: Abdelsalam El-Farra, Multilateral Affairs Division, Foreign Agricultural Service, U.S. Department of Agriculture, at (202) 720-9439; or by email at: abdelsalam.el-farra@fas.usda.gov.

SUPPLEMENTARY INFORMATION: The Dairy Tariff-Rate Quota Import Licensing Regulation promulgated by USDA and codified at 7 CFR 6.20-6.36 provides for the issuance of licenses, including designated licenses, to import certain dairy articles that are subject to TRQs set forth in the HTS. Those dairy articles may only be entered into the United States at the in-quota TRQ tariff-rates by or for the account of a person or firm to whom such licenses have been issued. USDA annually publishes by notice in the Federal Register the amounts of each dairy TRQ for which the government of the applicable country may, not later than October 31 prior to the beginning of a quota year, designate the importers that are to be issued licenses by the Licensing Authority. See Adjustment of Appendices under the Dairy Tariff-Rate Quota Import Licensing Regulation for the 2021 Tariff-Rate Quota Year, 85 FR 67706 (October 26, 2020) (Appendices 3 & 4).

In accordance with the definitions in Chapter 4 of the HTS, the UK continues to be eligible to export under U.S. dairy TRQs allocated to the EU-27.¹ In previous years, the EC designated importers on behalf of the UK and all other eligible EU Member States. However, because the UK has withdrawn from the EU, the EC has informed the United States that it no longer has the authority to designate importers on behalf of UK exporters for trade transactions that will occur after December 31, 2020. The EU and the UK have each requested that the UK be permitted to designate importers for portions of certain dairy TRQs for the 2021 quota year. To maintain the status quo, the Licensing Authority has agreed to the EU's and the UK's requests and has determined that, for the 2021 quota year, the UK Government may designate importers for licenses for the quantities of cheese that have historically been supplied by UK exporters under designated licenses. Accordingly, the UK and EU may designate importers for licenses for dairy TRQs as follows:

¹ For purposes of Chapter 4 of the HTS, “the expression `EU27' refers to articles the product of one of the following: Austria, Belgium, Bulgaria, Cyprus, the Czech Republic, Denmark, Estonia, Finland, France, the Federal Republic of Germany, Hungary, Greece, Ireland, Italy, Latvia, Lithuania, Luxembourg, Malta, the Netherlands, Poland, Portugal, Romania, Spain, Slovenia, the Slovak Republic, Sweden or the United Kingdom.”

—The UK will designate importers for the following three commodities for no more than the specified quantities: Cheese and Curd (Note 16) in the amount of 73,165 kg for the Tokyo Round and 277,403 kg for the Uruguay Round; Blue Mold (Note 17) in the amount of 2,905 kg for the Uruguay Round; and Cheddar (Note 18) in the amount of 716,520 kg for the Uruguay Round;

—The EU will designate importers for these three commodities for no more than the specified quantities: Cheese and Curd (Note 16) in the amount of 835,712 kg for the Tokyo Round and 3,168,597 kg for the Uruguay Round; Blue Mold (Note 17) in the amount of 347,095 kg for the Uruguay Round; and Cheddar (Note 18) in the amount of 333,480 kg for the Uruguay Round; and

—For all other cheese TRQs, the EU will designate importers for the entire quantity available for designated licenses allocated to the EU-27 on behalf of EU exporters.

Pursuant to the Congressional Review Act (5 U.S.C. 801 et seq.), the Office of Information and Regulatory Affairs has designated this notice as not a major rule, as defined by 5 U.S.C. 804(2).

Lori Tortora,
Licensing Authority.

[FR Doc. 2020-24393 Filed 11-3-20; 8:45 am]

BILLING CODE 3410-10-P